DEPARTMENT OF ENERGY

Federal Energy Regulatory Commission

Combined Notice of Filings #1

Take notice that the Commission received the following electric rate filings:

Docket Numbers: ER19-31-001.

Applicants: Oregon Clean Energy, LLC.

Description: Report Filing: Refund Report to be effective N/A.

Filed Date: 7/16/19.

Accession Number: 20190716-5058.

Comments Due: 5 p.m. ET 8/6/19.

Docket Numbers: ER19-709-004.

Applicants: Entergy Arkansas, LLC, Entergy Mississippi, LLC, Entergy New Orleans, LLC, Entergy Texas, Inc., Entergy Louisiana, LLC.

Description: Tariff Amendment: Entergy OpCos Reactive Power Update to be effective 10/1/2015.

Filed Date: 7/15/19.

Accession Number: 20190715-5116.

Comments Due: 5 p.m. ET 8/5/19.

Docket Numbers: ER19-1646-000.

Applicants: Performance Materials NA, Inc.

Description: Response to June 20, 2019 Deficiency Letter of Performance Materials NA, Inc.

Filed Date: 7/15/19.

Accession Number: 20190715-5146.

Comments Due: 5 p.m. ET 8/5/19.

Docket Numbers: ER19-1661-001.

Applicants: Virginia Electric and Power Company, PJM Interconnection, L.L.C.

Description: Tariff Amendment: Dominion submits a response per FERC's 6/14/2019 Deficiency Letter to be effective 1/1/2020.

Filed Date: 7/15/19.

Accession Number: 20190715-5078.

Comments Due: 5 p.m. ET 8/5/19.

Docket Numbers: ER19-1938-001.

Applicants: Florida Power & Light Company.

Description: Compliance filing: FPL Amendment to Order No. 845 Compliance Filing to be effective 5/22/2019.

Filed Date: 7/15/19.

Accession Number: 20190715-5133.

Comments Due: 5 p.m. ET 8/5/19.

Docket Numbers: ER19-1940-001.

Applicants: Gulf Power Company.

Description: Compliance filing: Amendment to Order 845 Compliance Filing to be effective 5/22/2019.

Filed Date: 7/15/19.

Accession Number: 20190715-5105.

Comments Due: 5 p.m. ET 8/5/19.

Docket Numbers: ER19-1947-001.

Applicants: Puget Sound Energy, Inc.

Description: Compliance filing: Response to Deficiency Letter to be effective 5/22/2019.

Filed Date: 7/15/19.

Accession Number: 20190715-5102.

Comments Due: 5 p.m. ET 8/5/19.

Docket Numbers: ER19-1948-001.

Applicants: PacifiCorp.

Description: Compliance filing: OATT Order 845—Deficiency (6.13.19) to be effective 5/22/2019.

Filed Date: 7/15/19.

Accession Number: 20190715-5137.

Comments Due: 5 p.m. ET 8/5/19.

Docket Numbers: ER19-1956-001.

Applicants: Cube Yadkin Transmission LLC.

Description: Compliance filing: Response to Deficiency Letter and Compliance Filing to be effective 5/22/2019.

Filed Date: 7/15/19.

Accession Number: 20190715-5071.

Comments Due: 5 p.m. ET 8/5/19.

Docket Numbers: ER19-1957-001.

Applicants: Alabama Power Company.

Description: Compliance filing: Order Nos. 845 and 845-A Deficiency Compliance Filing to be effective 5/22/2019.

Filed Date: 7/15/19.

Accession Number: 20190715-5103.

Comments Due: 5 p.m. ET 8/5/19.

Docket Numbers: ER19-1961-002.

Applicants: GridLiance High Plains LLC.

Description: Compliance filing: Order No. 845 Compliance Filing—OATT—Attachment M to be effective 5/22/2019.

Filed Date: 7/15/19.

Accession Number: 20190715-5080.

Comments Due: 5 p.m. ET 8/5/19.

Docket Numbers: ER19-2401-000.

Applicants: Wisconsin Electric Power Company.

Description: § 205(d) Rate Filing: Formula Rate Update Filing for 2018 Rate Year to be effective 9/14/2019.

Filed Date: 7/15/19.

Accession Number: 20190715-5077.

Comments Due: 5 p.m. ET 8/5/19.

Docket Numbers: ER19-2402-000.

Applicants: West Penn Power Company, PJM Interconnection, L.L.C.

Description: § 205(d) Rate Filing: West Penn Power Company submits IA SA No. 5327 to be effective 9/13/2019.

Filed Date: 7/15/19.

Accession Number: 20190715-5079.

Comments Due: 5 p.m. ET 8/5/19.

Docket Numbers: ER19-2403-000.

Applicants: International Transmission Company.

Description: § 205(d) Rate Filing: Filing of a CIAC Agreement to be effective 9/14/2019.

Filed Date: 7/15/19.

Accession Number: 20190715-5104.

Comments Due: 5 p.m. ET 8/5/19.

Docket Numbers: ER19-2404-000.

Applicants: PJM Interconnection, L.L.C.

Description: § 205(d) Rate Filing: Original ISA, SA No. 5422; Queue No. AC1-158 to be effective 6/14/2019.

Filed Date: 7/15/19.

Accession Number: 20190715-5113.

Comments Due: 5 p.m. ET 8/5/19.

Docket Numbers: ER19-2405-000.

Applicants: Porterhouse Wind (4) LLC.

Description: § 205(d) Rate Filing: Porterhouse Wind (4) LLC Change in Status to be effective 7/16/2019.

Filed Date: 7/15/19.

Accession Number: 20190715-5121.

Comments Due: 5 p.m. ET 8/5/19.

Docket Numbers: ER19-2406-000.

Applicants: Midcontinent Independent System Operator, Inc.

Description: § 205(d) Rate Filing: 2019-07-16_SA 3328 Badger Hollow Solar Farm-ATC E&P (J870 J871) to be effective 6/24/2019.

Filed Date: 7/16/19.

Accession Number: 20190716-5048.

Comments Due: 5 p.m. ET 8/6/19.

Docket Numbers: ER19-2407-000.

Applicants: NGI-Kayenta II, LLC.

Description: Baseline eTariff Filing: Application for Market-Based Rate Tariff, Blanket Approval and Waivers to be effective 7/22/2019.

Filed Date: 7/16/19.

Accession Number: 20190716-5062.

Comments Due: 5 p.m. ET 8/6/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 16, 2019.
Nathaniel J. Davis, Sr.,
Deputy Secretary.

[FR Doc. 2019-15576 Filed 7-22-19; 8:45 am]

BILLING CODE 6717-01-P